DEPARTMENT OF STATE

[Public Notice: 9182]

Advisory Committee on International Economic Policy; Notice of Open Meeting

The Advisory Committee on International Economic Policy (ACIEP) will meet between 2:00 and 5:00 p.m., on Thursday, July 23, 2015, in Room 4477 of the Harry S Truman Building at the U.S. Department of State, 2201 C Street NW., Washington, DC. The meeting will be hosted by the Assistant Secretary of State for Economic and Business Affairs, Charles H. Rivkin and Committee Chair Paul R. Charron. The ACIEP serves the U.S. government in a solely advisory capacity, and provides advice concerning topics in international economic policy. It is expected that the ACIEP subcommittees will provide updates on their work.

This meeting is open to public participation, though seating is limited. Entry to the building is controlled. To obtain pre-clearance for entry, members of the public planning to attend should no later than Tuesday, July 14, provide their full name, professional affiliation, valid government-issued ID number (i.e., U.S. government ID, U.S. military ID, passport [country], or driver's license [state]), date of birth, and citizenship, to Melike Yetken by email: YetkenMA@State.gov. All persons wishing to attend the meeting must use the 21st Street entrance on 21st Street near Virginia Avenue. (Not the “jogger's” entrance or the C Street entrance) of the State Department. Because of escorting requirements, non-government attendees should plan to arrive no later than 15 minutes before the meeting begins. Requests for reasonable accommodation should be made to Melike Yetken before Tuesday, July 14. Requests made after that date will be considered, but might not be possible to fulfill.

Personal data is requested pursuant to Public Law 99-399 (Omnibus Diplomatic Security and Antiterrorism Act of 1986), as amended; Public Law 107-56 (USA PATRIOT Act); and E.O. 13356. The purpose of the collection is to validate the identity of individuals who enter Department facilities. The data will be entered into the Visitor Access Control System (VACS-D) database. Please see the Security Records System of Records Notice (State-36) at http://www.state.gov/documents/organization/103419.pdf for additional information.

For additional information, contact Melike Yetken, Office of Economic Policy Analysis and Public Diplomacy, Bureau of Economic and Business Affairs, at (202) 647-2744, or YetkenMA@state.gov

Dated: June 29, 2015.
Melike A. Yetken,
Designated Federal Official, U.S. Department of State.

[FR Doc. 2015-16616 Filed 7-6-15; 8:45 am]

BILLING CODE 4710-08-P